DEPARTMENT OF HOMELAND SECURITY

U.S. Citizenship and Immigration Services

[CIS No. 2527-12; DHS Docket No. USCIS-2012-0014]

RIN 1615-ZB17

Extension and Redesignation of South Sudan for Temporary Protected Status

AGENCY: U.S. Citizenship and Immigration Services, Department of Homeland Security.

ACTION: Notice.

SUMMARY: This Notice announces that the Secretary of Homeland Security (Secretary) is both extending the existing designation of South Sudan for Temporary Protected Status (TPS) for 18 months from May 3, 2013 through November 2, 2014, and redesignating South Sudan for TPS for 18 months, effective May 3, 2013 through November 2, 2014.

The extension allows currently eligible TPS beneficiaries to retain TPS through November 2, 2014. The redesignation of South Sudan allows additional individuals who have been continuously residing in the United States since January 9, 2013, to obtain TPS, if eligible. The Secretary has determined that an extension and redesignation are warranted because the conditions in South Sudan that prompted the TPS designation not only continue to be met but have deteriorated. There continues to be a substantial, but temporary, disruption of living conditions in South Sudan based upon ongoing armed conflict and extraordinary and temporary conditions in that country that prevent South Sudanese who now have TPS from returning in safety.

This Notice also sets forth procedures necessary for nationals of South Sudan (or aliens having no nationality who last habitually resided in South Sudan) to either: (1) Re-register under the extension if they already have TPS and to apply for renewal of their Employment Authorization Documents (EADs) with U.S. Citizenship and Immigration Services (USCIS) or (2) submit an initial registration application under the redesignation and apply for an EAD.

For individuals who have already been granted TPS under the South Sudan designation, the 60-day re-registration period runs from January 9, 2013 through March 11, 2013. USCIS will issue new EADs with a November 2, 2014 expiration date to eligible South Sudanese TPS beneficiaries who timely re-register and apply for EADs under this extension. Under the redesignation, individuals who currently do not have TPS (or an initial TPS application pending) may submit an initial TPS application during the 180-day initial registration period that runs from January 9, 2013 through July 8, 2013. In addition to demonstrating continuous residence in the United States since January 9, 2013, initial applicants for TPS under this redesignation must demonstrate that they have been continuously physically present in the United States since May 3, 2013, the effective date of the redesignation of South Sudan, before USCIS will be able to grant them TPS.

Some individuals who are TPS beneficiaries under the current designation of Sudan may now be nationals of South Sudan, and may now qualify for TPS under South Sudan. In addition to regular procedures, this notice sets forth special procedures for such individuals to register and apply for TPS under the South Sudan redesignation.

DATES: Extension of TPS: The 18-month extension of the TPS designation of South Sudan is effective May 3, 2013, and will remain in effect through November 2, 2014. The 60-day re-registration period runs from January 9, 2013 through March 11, 2013.

Redesignation of South Sudan for TPS: The redesignation of South Sudan for TPS is effective May 3, 2013, and will remain in effect through November 2, 2014, a period of 18 months. The 180-day initial registration period for new applicants under the South Sudan TPS redesignation runs from January 9, 2013 through July 8, 2013.

Further Information

• For further information on TPS, including guidance on the application process and additional information on eligibility, please visit the USCIS TPS Web page at http://www.uscis.gov/tps. You can find specific information about this extension and redesignation of South Sudan for TPS by selecting “TPS Designated Country: South Sudan” from the menu on the left of the TPS Web page.

• You can also contact the TPS Operations Program Manager at the Family and Status Branch, Service Center Operations Directorate, U.S. Citizenship and Immigration Services, Department of Homeland Security, 20 Massachusetts Avenue NW., Washington, DC 20529-2060; or by phone at (202) 272-1533 (this is not a toll-free number). Note: The phone number provided here is solely for questions regarding this TPS notice. It is not for individual case status inquiries.

• Applicants seeking information about the status of their individual cases can check Case Status Online, available at the USCIS Web site at http://www.uscis.gov, or call the USCIS National Customer Service Center at 800-375-5283 (TTY 800-767-1833). Service is available in English and Spanish only.

• Further information will also be available at local USCIS offices upon publication of this Notice.

SUPPLEMENTARY INFORMATION:

Abbreviations and Terms Used in This Document

CPA—Comprehensive Peace Agreement

DHS—Department of Homeland Security

DOS—Department of State

EAD—Employment Authorization Document

Government—U.S. Government

HRW—Human Rights Watch

INA—Immigration and Nationality Act

OCHA—UN Office for the Coordination of Humanitarian Affairs

OSC—U.S. Department of Justice, Office of Special Counsel for Immigration-Related Unfair Employment Practices

SAF—Sudan Armed Forces

Secretary—Secretary of Homeland Security

South Sudan—Republic of South Sudan

SPLA—Sudan People's Liberation Army (South Sudan's military)

TPS—Temporary Protected Status

UN—United Nations

UNHCR—UN High Commissioner for Refugees

USAID—U.S. Agency for International Development

USCIS—U.S. Citizenship and Immigration Services

What is Temporary Protected Status (TPS)?

• TPS is a temporary immigration status granted to eligible nationals of a country designated for TPS under the Immigration and Nationality Act (INA), or to persons without nationality who last habitually resided in the designated country.

• During the TPS designation period, TPS beneficiaries are eligible to remain in the United States and may obtain work authorization, so long as they continue to meet the requirements of TPS status.

• TPS beneficiaries may also be granted travel authorization as a matter of discretion.

• The granting of TPS does not lead to permanent resident status.

• When the Secretary terminates a country's TPS designation, beneficiaries return to the same immigration status they maintained before TPS (unless that status has since expired or been terminated) or to any other lawfully obtained immigration status they received while registered for TPS.

When was South Sudan designated for TPS?

On October 13, 2011, the Secretary designated South Sudan for TPS, effective November 3, 2011, based on an ongoing armed conflict and extraordinary and temporary conditions within that country. See 76 FR 63629; sections 244(b)(1)(A) and (C) of the INA, 8 U.S.C. 1254a(b)(1)(A) and (C). This announcement is the first extension and first redesignation of TPS for South Sudan since the designation in 2011.

What authority does the Secretary of Homeland Security have to extend the designation of South Sudan for TPS?

Section 244(b)(1) of the INA, 8 U.S.C. 1254a(b)(1), authorizes the Secretary, after consultation with appropriate Government agencies, to designate a foreign state (or part thereof) for TPS.¹ The Secretary may then grant TPS to eligible nationals of that foreign state (or aliens having no nationality who last habitually resided in that state). See section 244(a)(1)(A) of the INA, 8 U.S.C. 1254a(a)(1)(A).

¹ As of March 1, 2003, in accordance with section 1517 of title XV of the Homeland Security Act of 2002 (HSA), Public Law 107-296, 116 Stat. 2135, any reference to the Attorney General in a provision of the INA describing functions transferred from the Department of Justice to the Department of Homeland Security “shall be deemed to refer to the Secretary” of Homeland Security. See 6 U.S.C. 557 (codifying HSA, tit. XV, sec. 1517).

At least 60 days before the expiration of a country's TPS designation or extension, the Secretary, after consultation with appropriate Government agencies, must review the conditions in a foreign state designated for TPS to determine whether the conditions for the TPS designation continue to be met. See section 244(b)(3)(A) of the INA, 8 U.S.C. 1254a(b)(3)(A). If the Secretary determines that a foreign state continues to meet the conditions for TPS designation, the designation is extended for an additional 6 months (or in the Secretary's discretion for 12 or 18 months). See section 244(b)(3)(C) of the INA, 8 U.S.C. 1254a(b)(3)(C). If the Secretary determines that the foreign state no longer meets the conditions for TPS designation, the Secretary must terminate the designation. See section 244(b)(3)(B) of the INA, 8 U.S.C. 1254a(b)(3)(B).

What is the Secretary's authority to redesignate South Sudan for TPS?

In addition to extending an existing TPS designation, the Secretary, after consultation with appropriate Government agencies, may redesignate a country (or part thereof) for TPS. See section 244(b)(1) of the INA, 8 U.S.C. 1254a(b)(1); see also section 244(c)(1)(A)(i) of the INA, 8 U.S.C. 1254a(c)(1)(A)(i) (requiring that “the alien has been continuously physically present since the effective date of the most recent designation of the state.” (emphasis added)). This is one of several instances in which the Secretary, and prior to the establishment of the Department of Homeland Security (DHS) the Attorney General, have simultaneously extended a country's TPS designation and redesignated the country for TPS. See, e.g., 77 FR 25723 (May 1, 2012) (extension and redesignation for Somalia); 76 FR 29000 (May 19, 2011) (extension and redesignation for Haiti); 62 FR 16608 (Apr. 7, 1997) (extension and redesignation for Liberia).

When the Secretary designates or redesignates a country for TPS, she also has the discretion to establish the date from which TPS applicants must demonstrate that they have been “continuously resid[ing]” in the United States. See section 244(c)(1)(A)(ii) of the INA, 8 U.S.C.S 1254a(c)(1)(A)(ii). This discretion permits the Secretary to tailor the “continuous residence” date to offer TPS to the group of eligible individuals that the Secretary deems appropriate.

The Secretary has determined that the “continuous residence” date for applicants for TPS under the redesignation of South Sudan shall be January 9, 2013. Initial applicants for TPS under this redesignation must also show they have been “continuously physically present” in the United States since May 3, 2013, which is the effective date of the Secretary's redesignation of South Sudan. See section 244(c)(1)(A)(i) of the INA, 8 U.S.C. 1254a(c)(1)(A)(i). For each initial TPS application filed under the redesignation, the final determination whether the applicant has met the “continuous physical presence” requirement cannot be made until May 3, 2013. USCIS, however, will issue EADs, as appropriate, during the registration period in accordance with 8 CFR 244.5(b).

Why is the Secretary extending the TPS designation for South Sudan and simultaneously redesignating South Sudan for TPS through November 2, 2014?

Over the past year, DHS and the Department of State (DOS) have continued to review conditions in South Sudan. Based on this review and after consulting with DOS, the Secretary has determined that an 18-month extension is warranted because the armed conflict is ongoing and the extraordinary and temporary conditions that prompted the November 3, 2011 designation persist. The Secretary has further determined that the conditions in South Sudan, which have deteriorated, support redesignating South Sudan for TPS and changing the “continuous residence” and “continuous physical presence” dates so as to continue affording TPS protection to the fewer than 10 South Sudanese nationals who arrived in the United States before October 7, 2004 and registered under the initial designation and to extend TPS protection to eligible South Sudanese nationals who arrived between October 7, 2004 and January 9, 2013.

Ongoing armed conflict throughout much of South Sudan caused continued insecurity and led to continued internal displacement and refugee flight into neighboring countries, even as South Sudanese return to South Sudan en masse. Violence and ensuing population displacement, along with environmental and economic factors, have created one of the worst humanitarian crises in the world. Efforts by the international community to get aid to the civilian population continue to be severely compromised by weather-related factors, poor infrastructure, and threats to the safety of aid workers.

The signing of the Comprehensive Peace Agreement (CPA) in January 2005 put an end to more than two decades of civil war in Sudan. There was significant progress towards fulfilling the mandates of the CPA, such as the creation of South Sudan on July 9, 2011. However, unresolved CPA issues created political tensions that led to military confrontations along the Sudan-South Sudan border (specifically the transitional areas of Abyei, Blue Nile State, and Southern Kordofan). Since May 2011 and continuing in 2012, sporadic violent conflicts involving the Sudan Armed Forces (SAF) and South Sudan's military—Sudan People's Liberation Army (SPLA)—have led to loss of civilian life and mass displacement.

As part of the CPA, the contested territory of Abyei was to be jointly administered until local residents determined whether they would join Sudan or the South Sudan, but the referendum has yet to be held. In the months leading up to South Sudan's independence, both the Sudanese and the South Sudanese armies reinforced their positions near Abyei. On May 19, 2011, in a move condemned by the United Nations (UN) as a breach of the 2005 CPA, SAF and Sudanese police attacked and took control of Abyei. The UN News Service reported that as a result of the conflict, more than 110,000 people were displaced into Agok and South Sudan. On June 20, 2011, Sudan and South Sudan reached an agreement on temporary administration measures and demilitarization of the area. Although the SAF and the majority of the Sudanese Police had withdrawn from the area by June 2012, the UN reported that as of July 2012, the majority of those who fled the fighting in 2011 remained displaced in and outside the Abyei area because of the lack of a civilian Abyei administration, the continued presence of armed forces, and the presence of landmines.

In June 2011, fighting between the SAF and the SPLA erupted in Kadugli, the capital of Southern Kordofan. On June 25, 2011, the UN Office for the Coordination of Humanitarian Affairs (OCHA) reported that Sudanese government forces conducted airstrikes and artillery shelling in the eastern and southern parts of the Nuba Mountains in Southern Kordofan. Hostilities increased in April 2012, when South Sudanese forces captured the disputed oilfield of Heglig.

In September 2011, a new battle zone erupted in Blue Nile State. Human Rights Watch (HRW) interviewed witnesses who “described indiscriminate bombings in civilian areas, killings, and other serious abuses by Sudanese armed forces since armed conflict broke out there.” Ground fighting and aerial bombing of Sudan's Southern Kordofan and Blue Nile states by the SAF have killed hundreds of civilians and forced thousands to flee across the international border into crowded refugee camps in Unity and Upper Nile states in South Sudan.

South Sudan's human rights record is poor and includes instances of extrajudicial killings, disappearances, arbitrary arrest and detention, forced population movements, rape, and forced conscription of children. Rebel groups are also responsible for serious abuses. Violence related to inter-tribal clashes and sporadic conflict related to irregular armed groups within South Sudan continued to threaten stability and negatively impact the civilian population. HRW noted that “both the government and the UN peacekeepers have been unable to protect civilians and prevent these often predictable outbreaks of violence.” DOS reported that since the beginning of 2012, over 12,000 South Sudanese refugees fled to neighboring countries. Inter-communal violence remains a serious problem, involving large-scale and armed violent attacks among neighboring communities and groups. The South Sudanese Government does not have the capability to secure much of its own territory, and relies on the UN Mission in South Sudan to provide protection of civilians in critical situations.

South Sudan is already considered one of the poorest, least-developed places in the world, and the ongoing humanitarian crisis has left much of South Sudan's population of 8 million in need of humanitarian assistance. The more than 620,000 South Sudanese returning from Sudan since October 2010 continue to strain limited resources, and high levels of humanitarian needs are reported in areas that have a high concentration of returnees. In January 2012, the Office of the UN High Commissioner for Refugees (UNHCR) reported that over 550,000 people had been internally displaced in South Sudan. OCHA further reported that there were over 160,000 new internally displaced people between January and mid-July 2012. Furthermore, the UNHCR reported that as of July 2012, there were over 200,000 refugees living in South Sudan (around 170,000 were from Sudan), stretching existing humanitarian capabilities. The Government of South Sudan lacks the capacity and resources to meet the basic needs of the majority of its own citizens and refugees from neighboring countries.

OCHA estimated in July 2012 that more than half of South Sudan's 8 million population is at risk of food insecurity. DOS reported that an estimated 2.9 million people currently require food assistance. Significant areas of South Sudan are experiencing drought conditions, which is exacerbating the situation, pushing food deficits higher. The food shortages, the arrival of returnees and refugees, insecurity, and ongoing conflict have impaired the delivery of basic health services to large portions of the South Sudanese population.

There are multiple factors impeding delivery of humanitarian aid. Although the Government of South Sudan made some positive efforts to reduce interference in humanitarian operations, USAID reported that “[i]nsecurity, landmines, and transportation and communication challenges due to limited infrastructure restrict humanitarian activities across South Sudan.” It is estimated that there are fewer than 100 km of paved roads in South Sudan and the accessibility of those roads is compromised during the rainy season.

Based upon this review and after consultation with appropriate Government agencies, the Secretary finds that:

• The conditions that prompted the November 3, 2011 designation of South Sudan for TPS continue to be met. See sections 244(b)(3)(A) and (C) of the INA, 8 U.S.C. 1254a(b)(3)(A) and (C).

• There continues to be an armed conflict in South Sudan and, due to such conflict, requiring the return of South Sudanese nationals to South Sudan would pose a serious threat to their personal safety. See section 244(b)(1)(A) of the INA, 8 U.S.C. 1254a(b)(1)(A).

• There continue to be extraordinary and temporary conditions in South Sudan that prevent South Sudanese nationals from returning to South Sudan in safety. See section 244(b)(1)(C) of the INA, 8 U.S.C. 1254a(b)(1)(C).

• It is not contrary to the national interest of the United States to permit South Sudanese (and persons who have no nationality who last habitually resided in South Sudan) who meet the eligibility requirements of TPS to remain in the United States temporarily. See section 244(b)(1)(C) of the INA, 8 U.S.C. 1254a(b)(1)(C).

• The designation of South Sudan for TPS should be extended for an additional 18-month period from May 3, 2013 through November 2, 2014. See section 244(b)(3)(C) of the INA, 8 U.S.C. 1254a(b)(3)(C).

• Based on current country conditions, South Sudan should be simultaneously redesignated for TPS effective May 3, 2013 through November 2, 2014. See sections 244(b)(1)(A), (b)(1)(C) and (b)(2) of the INA; 8 U.S.C.S 1254a(b)(1)(A), (b)(1)(C) and (b)(2).

• TPS applicants must demonstrate that they have continuously resided in the United States since January 9, 2013.

• The date by which TPS applicants must demonstrate that they have been continuously physically present in the United States is May 3, 2013, the effective date of the redesignation of South Sudan for TPS.

• There are fewer than 10 current South Sudanese TPS beneficiaries who are expected to be eligible to re-register for TPS under the extension. DHS recognizes that some individuals who registered under the designation of Sudan may be eligible for TPS under the redesignation of South Sudan and may choose to apply as such. They will be granted TPS under the South Sudan redesignation if they present satisfactory evidence of South Sudanese nationality and are otherwise eligible.

• It is estimated that fewer than 4,000 additional individuals may be eligible for TPS under the combined redesignations of South Sudan and Sudan. With the creation of South Sudan having just occurred July 9, 2011, it is difficult to breakdown this estimate between the two countries. This population includes potentially eligible South Sudanese and Sudanese who are in a lawful nonimmigrant status or who have no other status.

Notice of Extension of the TPS Designation of South Sudan and Redesignation of South Sudan for TPS

By the authority vested in me as Secretary under section 244 of the INA, 8 U.S.C. 1254a, I have determined, after consultation with the appropriate Government agencies, that the conditions that prompted the 2011 designation of South Sudan for TPS not only continue to be met but have deteriorated. See section 244(b)(3)(A) of the INA, 8 U.S.C. 1254a(b)(3)(A). On the basis of this determination, I am simultaneously extending the existing TPS designation of South Sudan for 18 months from May 3, 2013 through November 2, 2014, and redesignating South Sudan for TPS for 18 months from May 3, 2013 through November 2, 2014. See sections 244(b)(1)(A), (b)(1)(C) and (b)(2) of the INA; 8 U.S.C. 1254a(b)(1)(A), (b)(1)(C) and (b)(2). I have also determined that eligible individuals must demonstrate that they have continuously resided in the United States since January 9, 2013. See section 244(c)(1)(A)(ii) of the INA, 8 U.S.C. 1254a(c)(1)(A)(ii).

Janet Napolitano,
Secretary.

Required Application Forms and Application Fees To Register or Re-register for TPS

To register or re-register for TPS for South Sudan, an applicant must submit each of the following two applications:

1. Application for Temporary Protected Status (Form I-821).

• If you are filing an initial application, you must pay the fee for the Application for Temporary Protected Status (Form I-821). See 8 CFR 244.2(f)(1) and 244.6 and information on initial filing on the USCIS TPS Web page at http://www.uscis.gov/tps.

• If you are filing a re-registration, you do not need to pay the fee for the Application for Temporary Protected Status (Form I-821). See 8 CFR 244.17;

• If you are currently a TPS beneficiary under the Sudan TPS designation (or you have a pending TPS Sudan initial application) and are now filing an initial application for the South Sudan designation, you do not need to pay the fee for the Application for Temporary Protected Status (Form I-821). But you do need to provide either a copy of (1) A Sudan TPS Approval Notice (Form I-797) showing you are currently a Sudan TPS beneficiary, (2) an EAD showing that you are currently a Sudan TPS beneficiary, or (3) a receipt notice for an Application for Temporary Protected Status (Form I-821) if you have a pending TPS Sudan initial application; and

2. Application for Employment Authorization (Form I-765).

• If you are applying for initial registration and want an EAD, you must pay the fee for the Application for Employment Authorization (Form I-765) only if you are age 14 through 65. No fee for the Application for Employment Authorization (Form I-765) is required if you are under the age of 14 or 66 and older and applying for initial registration.

• If you are applying for re-registration, you must pay the fee for the Application for Employment Authorization (Form I-765) only if you want an EAD.

• You do not pay the fee for the Application for Employment Authorization (Form I-765) if you are not requesting an EAD, regardless of whether you are applying for initial registration or re-registration.

• If you have a pending Application for Employment Authorization (Form I-765) that you previously submitted with your request for Sudan TPS and you have not yet received your EAD under Sudan TPS, then you do not need to repay the Application for Employment Authorization (Form I-765) fee. But you must submit a copy of your receipt notice for the Application for Employment Authorization (Form I-765) related to Sudan TPS (or your fee waiver grant notice) with your new application. Your fee (or fee waiver grant) will be applied to your application for an EAD under the South Sudan TPS designation, if your Sudan TPS EAD has not been mailed to you yet.

You must submit both completed application forms together. If you are unable to pay for the application and/or biometrics fee, you may apply for a fee waiver by completing a Request for Fee Waiver (Form I-912) or submitting a personal letter requesting a fee waiver, and by providing satisfactory supporting documentation. For more information on the application forms and fees for TPS, please visit the USCIS TPS Web page at http://www.uscis.gov/tps. Fees for the Application for Temporary Protected Status (Form I-821), the Application for Employment Authorization (Form I-765), and biometric services are also described in 8 CFR 103.7(b)(1)(i).

Biometric Services Fee

Biometrics (such as fingerprints) are required for all applicants 14 years of age or older. Those applicants must submit a biometric services fee. As previously stated, if you are unable to pay for the biometric services fee, you may apply for a fee waiver by completing a Request for Fee Waiver (Form I-912) or by submitting a personal letter requesting a fee waiver, and providing satisfactory supporting documentation. For more information on the biometric services fee, please visit the USCIS Web site at http://www.uscis.gov. If necessary, you may be required to visit an Application Support Center to have your biometrics captured.

Refiling an Initial TPS Application After Receiving a Denial of a Fee Waiver Request

If you request a fee waiver when filing your initial TPS application package and your request is denied, you may refile your application packet before the initial filing deadline of July 8, 2013. If you submit your application with a fee waiver request before that deadline, but you receive a fee waiver denial and there are fewer than 45 days before the filing deadline (or the deadline has passed), you may still refile your application within the 45-day period after the date on the USCIS fee waiver denial notice. Your application will not be rejected even if the filing deadline has passed, provided it is mailed within those 45 days and all other required information for the application is included. Note: If you wish, you may also wait to request an EAD and pay the Application for Employment Authorization (Form I-765) fee after USCIS grants you TPS, if you are found eligible. If you choose to do this, you would still need to file the Application for Employment Authorization (Form I-765) without fee and without requesting an EAD with the Application for Temporary Protected Status (Form I-821).

Refiling a Re-Registration TPS Application After Receiving a Denial of a Fee Waiver Request

USCIS urges all re-registering applicants to file as soon as possible within the 60-day re-registration period so that USCIS can process the applications and issue EADs promptly. Filing early will also allow those applicants who may receive denials of their fee waiver requests to have time to refile their applications before the re-registration deadline. If, however, an applicant receives a denial of his or her fee waiver request and is unable to refile by the re-registration deadline, the applicant may still refile his or her application. This situation will be reviewed under good cause for late re-registration. However, applicants are urged to refile within 45 days of the date on their USCIS fee waiver denial notice, if at all possible. See section 244(c)(3)(C) of the INA; 8 U.S.C. 1254a(c)(3)(C); 8 CFR 244.17(c). For more information on good cause for late re-registration, visit the USCIS TPS Web page at http://www.uscis.gov/tps. Note: As previously stated, although a re-registering TPS beneficiary age 14 and older must pay the biometric services fee (but not the initial TPS application fee) when filing a TPS re-registration application, the applicant may decide to wait to request an EAD, and therefore not pay the Application for Employment Authorization (Form I-765) fee until after USCIS has approved the individual's TPS re-registration, if he or she is eligible.

Mailing Information

Mail your application for TPS to the proper address in Table 1.

Table 1—Mailing Addresses
If . . . | Mail to . . .
You are applying through the U.S. Postal Service | USCIS, P.O. Box 6943, Chicago, IL 60680-6943.
You are using a non-U.S. Postal Service delivery service | USCIS, Attn: TPS South Sudan, 131 S. Dearborn 3rd Floor, Chicago, IL 60603-5517.

If you were granted TPS by an Immigration Judge (IJ) or the Board of Immigration Appeals (BIA), and you wish to request an EAD or are re-registering for the first time following a grant of TPS by the IJ or BIA, please mail your application to the appropriate address in Table 1 above. Upon receiving a Receipt Notice from USCIS, please send an email to TPSijgrant.vsc@uscis.dhs.gov with the receipt number and state that you submitted a re-registration and/or request for an EAD based on an IJ/BIA grant of TPS. You can find detailed information on what further information you need to email and the email addresses on the USCIS TPS Web page at http://www.uscis.gov/tps.

E-Filing

You cannot electronically file your application when re-registering or applying for initial registration for South Sudan TPS. Please mail your application to the mailing address listed in Table 1 above.

Employment Authorization Document (EAD)

May I request an interim EAD at my local USCIS office?

No. USCIS will not issue interim EADs to TPS applicants and re-registrants at local offices.

Will my current EAD, which is set to expire on May 2, 2013, be automatically extended for 6 months?

No. This notice does not automatically extend previously issued EADs. DHS has announced the extension of the TPS designation of South Sudan and established the re-registration period at an early date to allow sufficient time for USCIS to process EAD requests prior to the May 2, 2013 expiration date. You must apply during the 60-day re-registration period. Failure to apply for TPS during the re-registration period without good cause may result in gaps in work authorization. DHS strongly encourages you to apply as early as possible within the re-registration period.

When hired, what documentation may I show to my employer as proof of employment authorization and identity when completing Employment Eligibility Verification (Form I-9)?

You can find a list of acceptable document choices on the “Lists of Acceptable Documents” for Employment Eligibility Verification (Form I-9). You can find additional detailed information on the USCIS I-9 Central Web page at http://www.uscis.gov/I-9Central. Employers are required to verify the identity and employment authorization of all new employees by using Employment Eligibility Verification (Form I-9). Within 3 days of hire, an employee must present proof of identity and employment authorization to his or her employer.

You may present any document from List A (reflecting both your identity and employment authorization), or one document from List B (reflecting identity) together with one document from List C (reflecting employment authorization). An EAD is an acceptable document under “List A.” Employers may not reject a document based upon a future expiration date.

What documentation may I show my employer if I am already employed but my current TPS-related EAD is set to expire?

You must present any document from List A or any document from List C on Employment Eligibility Verification (Form I-9) to reverify employment authorization. Your employer is required to reverify on Employment Eligibility Verification (Form I-9) the employment authorization of current employees upon the expiration of a TPS-related EAD. Your employer should use either Section 3 of the Form I-9 originally completed for the employee or, if this section has already been completed or if the version of Form I-9 is no longer valid, in Section 3 of a new Form I-9 using the most current version. Note that your employer may not specify which List A or List C document employees must present.

USCIS anticipates that it will be able to process and issue new EADs for existing TPS South Sudan beneficiaries before their current EADs expire on May 2, 2013. However, re-registering beneficiaries are encouraged to file as early as possible within the 60-day re-registration period to help ensure that they receive their EADs promptly.

Can my employer require that I produce any other documentation to prove my status, such as proof of my South Sudanese citizenship?

No. When completing Employment Eligibility Verification (Form I-9), including reverifying employment authorization, employers must accept any documentation that appears on the “Lists of Acceptable Documents” for Employment Eligibility Verification (Form I-9) and that reasonably appears to be genuine and that relates to you. Employers may not request documentation that does not appear on the “Lists of Acceptable Documents.” Therefore, employers may not request proof of South Sudanese citizenship when completing Employment Eligibility Verification (Form I-9) for new hires or reverifying the employment authorization of current employees. If presented with EADs that are unexpired on their face, employers should accept such EADs as valid List A documents so long as the EADs reasonably appear to be genuine and to relate to the employee. See below for important information about your rights if your employer rejects lawful documentation, requires additional documentation, or otherwise discriminates against you based on your citizenship or immigration status, or your national origin.

Note to All Employers

Employers are reminded that the laws requiring proper employment eligibility verification and prohibiting unfair immigration-related employment practices remain in full force. This notice does not supersede or in any way limit applicable employment verification rules and policy guidance, including those rules setting forth reverification requirements. For general questions about the employment eligibility verification process, employers may call the USCIS Form I-9 Customer Support at 888-464-4218 (TDD for the hearing impaired is at 877-875-6028). For questions about avoiding discrimination during the employment eligibility verification process, employers may also call the Department of Justice, Office of Special Counsel for Immigration-Related Unfair Employment Practices (OSC) Employer Hotline at 800-255-8155 (TDD for the hearing impaired is at 800-237-2515), which offers language interpretation in numerous languages.

Note to Employees

For general questions about the employment eligibility verification process, employees may call the USCIS National Customer Service Center at 800-375-5283 (TDD for the hearing impaired is at 800-767-1833); calls are accepted in English and Spanish. Employees or applicants may also call the OSC Worker Information Hotline at 800-255-7688 (TDD for the hearing impaired is at 1-800-237-2515) for information regarding employment discrimination based upon citizenship, immigration status, or national origin, or for information regarding discrimination related to Employment Eligibility Verification (Form I-9) and E-Verify. The OSC Worker Information Hotline provides language interpretation in numerous languages. In order to comply with the law, employers must accept any document or combination of documents acceptable for Employment Eligibility Verification (Form I-9) completion if the documentation reasonably appears to be genuine and to relate to the employee. Employers may not require extra or additional documentation beyond what is required for Employment Eligibility Verification (Form I-9) completion. Further, employers participating in E-verify who receive an E-verify initial mismatch (“tentative nonconfirmation” or “TNC”) on employees must inform employees of the mismatch and give such employees an opportunity to challenge the mismatch. Employers are prohibited from taking adverse action against such employees based on the initial mismatch unless and until E-Verify returns a final nonconfirmation. For example, employers must allow employees challenging their mismatches to continue to work without any delay in start date or training and without any change in hours or pay, while the final E-Verify determination remains pending. Additional information is available on the OSC Web site at http://www.justice.gov/crt/about/osc and the USCIS Web site at http://www.dhs.gov/E-verify.

Note Regarding Federal, State, and Local Government Agencies (Such as Departments of Motor Vehicles)

While Federal government agencies must follow the guidelines laid out by the Federal government, state and local government agencies establish their own rules and guidelines when granting certain benefits. Each state may have different laws, requirements, and determinations about what documents you need to provide to prove eligibility for certain benefits. Whether you are applying for a Federal, state, or local government benefit, you may need to provide the government agency with documents that show you are a TPS beneficiary and/or show you are authorized to work based on TPS. Examples are:

(1) Your EAD that has a valid expiration date;

(2) A copy of your Application for Temporary Protected Status Receipt Notice (Form I-797) for this re-registration; and/or

(3) A copy of your past or current Application for Temporary Protected Status Approval Notice (Form I-797), if you receive one from USCIS.

Check with the government agency regarding which document(s) the agency will accept. You may also provide the agency with a copy of this notice.

Some benefit-granting agencies use the USCIS Systematic Alien Verification for Entitlements Program (SAVE) to verify the current immigration status of applicants for public benefits. If such an agency has denied your application based solely or in part on a SAVE response, the agency must offer you the opportunity to appeal the decision in accordance with the agency's procedures. If the agency has received and acted upon or will act upon a SAVE verification and you do not believe the response is correct, you may make an InfoPass appointment for an in-person interview at a local USCIS office. Detailed information on how to make corrections, make an appointment, or submit a written request can be found at the SAVE Web site at http://www.uscis.gov/save, then by choosing “How to Correct Your Records” from the menu on the right.

[FR Doc. 2013-00051 Filed 1-8-13; 8:45 am]

BILLING CODE 9111-97-P